SMALL BUSINESS ADMINISTRATION

[Disaster Declaration #15322 and #15323; Puerto Rico Disaster Number PR-00031]

Presidential Declaration Amendment of a Major Disaster for the Commonwealth of Puerto Rico

AGENCY: U.S. Small Business Administration.

ACTION: Amendment 1.

SUMMARY: This is an amendment of the Presidential declaration of a major disaster for the Commonwealth of Puerto Rico (FEMA-4339-DR), dated 09/20/2017.

Incident: Hurricane Maria.

Incident Period: 09/17/2017 and continuing.

DATES: Issued on 10/02/2017.

Physical Loan Application Deadline Date: 11/20/2017.

Economic Injury (EIDL) Loan Application Deadline Date: 06/20/2018.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW., Suite 6050, Washington, DC 20416, (202) 205-6734.

SUPPLEMENTARY INFORMATION: The notice of the President's major disaster declaration for the Commonwealth of Puerto Rico, dated 09/20/2017, is hereby amended to include the following areas as adversely affected by the disaster:

Primary Municipalities (Physical Damage and Economic Injury Loans): Adjuntas, Aguada, Aguadilla, Anasco, Cabo Rojo, Camuy, Guanica, Guayanilla, Hatillo, Hormigueros, Isabela, Lajas, Lares, Las Marias, Maricao, Mayaguez, Moca, Penuelas, Quebradillas, Rincon, Sabana Grande, San German, San Sebastian, Yauco

Contiguous Municipalities (Economic Injury Loans Only): None

All other information in the original declaration remains unchanged.

(Catalog of Federal Domestic Assistance Number 59008)

James E. Rivera,
Associate Administrator for Disaster Assistance.

[FR Doc. 2017-21711 Filed 10-6-17; 8:45 am]

BILLING CODE 8025-01-P